DEPARTMENT OF ENERGY

Federal Energy Regulatory Commission

[Project Nos. 2322-069, 2322-071, 2325-100, 2574-092, 2611-091]

Brookfield White Pine Hydro, LLC, Merimil Limited Partnership, Hydro-Kennebec, LLC; Revised Procedural Schedule for Environmental Impact Statement for the Proposed Project Relicense, Interim Species Protection Plan, and Final Species Protection Plan

On January 31, 2020, Brookfield White Pine Hydro, LLC filed an application for a new license to continue to operate and maintain the 8.65-megawatt (MW) Shawmut Hydroelectric Project No. 2322 (Shawmut Project). On June 1, 2021, in a separate compliance proceeding for the Shawmut Project, Brookfield White Pine Hydro, LLC filed an Interim Species Protection Plan (Interim Plan) for Atlantic salmon and requested Commission approval to amend the current Shawmut license to incorporate the Interim Plan. The Interim Plan includes measures to protect endangered Atlantic salmon until the Commission issues a decision on the relicense application for the Shawmut Project.

Also on June 1, 2021, Brookfield Power US Asset Management, LLC (Brookfield), on behalf of the affiliated licensees for the 6.915-MW Lockwood Hydroelectric Project No. 2574, 15.433-MW Hydro-Kennebec Hydroelectric Project No. 2611, and 15.98-MW Weston Hydroelectric Project No. 2325, filed a Final Species Protection Plan (Final Plan) for Atlantic salmon, Atlantic sturgeon, and shortnose sturgeon and requested Commission approval to amend the three project licenses to incorporate the Final Plan. All four projects are located on the Kennebec River, in Kennebec and Somerset Counties, Maine.

On November 23, 2021, Commission staff issued a notice of intent to prepare a draft and final Environmental Impact Statement (EIS) to evaluate the effects of relicensing the Shawmut Project and amending the licenses of all four projects to incorporate the measures in the Interim and Final Plans. The notice of intent included a schedule for preparing a draft and final EIS.

On September 21, 2022, Brookfield filed supplemental information for the Final Plan, Interim Plan, and License Application. The filing includes a delayed mortality analysis for salmon smolts and additional measures that are intended to improve the downstream survival of juvenile and adult Atlantic salmon at the four projects. On October 5, 2022, Commission staff noticed the filing and solicited comments. Numerous comments were filed by stakeholders. The EIS will consider Brookfield's additional measures and the comments filed in response to the notice.

Therefore, by this notice, Commission staff is updating the procedural schedule for completing a draft and final EIS. The revised schedule is shown below. Further revisions to the schedule may be made as appropriate.

Milestone | Target date
Issue Draft EIS | August 2023.
Issue Final EIS | March 2024.

Any questions regarding this notice may be directed to Matt Cutlip at (503) 552-2762, or by email at matt.cutlip@ferc.gov.

Dated: February 15, 2023.
Kimberly D. Bose,
Secretary.

[FR Doc. 2023-03687 Filed 2-22-23; 8:45 am]

BILLING CODE 6717-01-P